DEPARTMENT OF COMMERCE

International Trade Administration

[A-523-812]

Circular Welded Carbon-Quality Steel Pipe From Oman: Rescission of Antidumping Duty Administrative Review; 2019-2020

AGENCY: Enforcement and Compliance, International Trade Administration, Department of Commerce.

SUMMARY: The Department of Commerce (Commerce) is rescinding the administrative review of the antidumping duty order on circular welded carbon-quality steel pipe from Oman for the period of review December 1, 2019, through November 30, 2020, based on the timely withdrawal of the request for review.

DATES: Applicable March 9, 2021.

FOR FURTHER INFORMATION CONTACT: Dennis McClure, AD/CVD Operations, Office VIII, Enforcement and Compliance, International Trade Administration, U.S. Department of Commerce, 1401 Constitution Avenue NW, Washington, DC 20230; telephone: (202) 482-5973.

SUPPLEMENTARY INFORMATION:

Background

On December 2, 2020, Commerce published a notice of opportunity to request an administrative review of the antidumping duty order on circular welded carbon-quality steel pipe from Oman.¹ Domestic interested parties ² requested an administrative review for Al Samna Metal Manufacturing & Trading Company LLC (Al Samna); Bollore Logistics (Oman) LLC (Bollore Logistics); Transworld Shipping Trading & Logistics Services LLC (Transworld Shipping), and Al Jazeera Steel Products Co. SAOG (Al Jazeera). Pursuant to the domestic interested parties' request, Commerce initiated an administrative review with respect to Al Samna, Bollore Logistics, and Transworld Shipping, in accordance with section 751(a) of the Tariff Act of 1930, as amended (the Act).³ However, we did not initiate an administrative review for Al Jazeera based on its request to defer the administrative review pursuant to 19 CFR 351.213(c), which the domestic interested parties did not contest.⁴ Subsequent to the initiation of the administrative review, the domestic interested parties timely withdrew their request for an administrative review of the remaining three companies, as discussed below. No other party requested an administrative review of these companies.

¹ See Antidumping or Countervailing Duty Order, Finding, or Suspended Investigation; Opportunity to Request Administrative Review, 85 FR 77431 (December 2, 2020).

² The domestic interested parties are Wheatland Tube Company and Bull Moose Tube.

³ See Initiation of Antidumping and Countervailing Duty Administrative Reviews, 86 FR 8166 (February 4, 2021) (Initiation Notice).

⁴ See Initiation Notice, 86 FR at 8175.

Rescission of Administrative Review

Pursuant to 19 CFR 351.213(d)(1), Commerce will rescind an administrative review, in whole or in part, if the party that requested a review withdraws its request within 90 days of the date of publication of the notice of initiation. The request for an administrative review of Al Samna, Bollore Logistics, and Transworld Shipping was withdrawn by the established deadline.⁵ As a result, Commerce is rescinding this review in its entirety, in accordance with 19 CFR 351.213(d)(1). Further, as noted in the Initiation Notice, Commerce deferred the administrative review for one year with respect to Al Jazeera.⁶

⁵ See Domestic Interested Parties' Letter, “Circular Welded Carbon Quality Steel Pipe from Oman: Partial Withdrawal of Request for Administrative Review,” dated February 23, 2021.

⁶ See Initiation Notice, 86 FR at 8175. As a result of the uncontested deferment request, Commerce intends to conduct its administrative review of Al Jazeera for the period December 1, 2019 through November 30, 2020, within the subsequent administrative review covering the period December 1, 2020, through November 30, 2021.

Assessment

Commerce will instruct U.S. Customs and Border Protection (CBP) to assess antidumping duties on all appropriate entries at a rate equal to the cash deposit of estimated antidumping duties required at the time of entry, or withdrawal from warehouse, for consumption, during the period December 1, 2019, through November 30, 2020, in accordance with 19 CFR 351.212(c)(1)(i). Commerce intends to issue assessment instructions to CBP no earlier than 35 days after publication of this notice in the Federal Register.

Notification to Importers

This notice serves as a final reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Notification Regarding Administrative Protective Orders

This notice also serves as a final reminder to parties subject to administrative protective order (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and terms of an APO is a violation which is subject to sanction.

Notification to Interested Parties

This notice is issued and published in accordance with sections 751(a)(1) and 777(i)(l) of the Act, and 19 CFR 351.213(d)(4).

Dated: March 3, 2021.
James Maeder,
Deputy Assistant Secretary for Antidumping and Countervailing Duty Operations.

[FR Doc. 2021-04870 Filed 3-8-21; 8:45 am]

BILLING CODE 3510-DS-P